DEPARTMENT OF LABOR

Employment and Training Administration

AGENCY: Employment and Training Administration, Department of Labor.

ACTION: Notice inviting proposals for Selected Demonstration Projects for Community Audits.

This notice contains all of the necessary information and forms needed to apply for grant funding.

SUMMARY: The U.S. Department of Labor (Department or DOL), Employment and Training Administration (ETA), announces a demonstration program to support promising practices in strategic planning and “strategic research” related to “community audits.” Community audits allow local stakeholders to bring together economic and labor market trend information which will support strategic planning and Workforce Investment Act (WIA) program implementation in their area, including customer service through the One-Stop Center system. Grantees will receive intensive technical assistance and participate in a rigorous evaluation. In addition, they will participate in and help structure national DOL activities meant to identify and disseminate lessons learned.

This solicitation describes the application submission requirements, the process that entities must use to apply for funds covered by this solicitation, how grantees are to be selected and the technical assistance that will be provided following selection of grantees. It is anticipated that $2.3 million will be available for funding projects covered by this solicitation. There will be two types of projects funded under the solicitation—locally-led projects and state-led multi-area projects. The maximum grant award will not exceed $50,000 for a single Local Workforce Investment Board (Local Board) or $100,000 for a regional consortium under the locally-led projects (approximately 15 grants), and will not exceed $150,000 for the State-led multi-area projects (approximately 10 grants awarded), for a period of 24 months from the date of execution.

Applicants should also look at the background materials on community audits, including “Conducting a Community Audit,” which are available at the website www.doleta.gov.

DATES: The closing date for receipt of application is Friday, November 17, 2000. Applications must be received by 4:00 p.m. (Eastern Standard Time) at the address below. No exceptions to the mailing and hand-delivery conditions set forth in this notice will be granted. Applications that do not meet the conditions set forth in this notice will not be honored. Telefacsimile (FAX) applications will not be honored.

ADDRESSES: Applications must be mailed to: U.S. Department of Labor, Employment and Training Administration, Division of Federal Assistance, Attention: Denise Roach, Reference: SGA/DFA-110, 200 Constitution Avenue, NW., Room S4203, Washington, DC 20210.

Hand Delivered Proposals. If proposals are hand delivered, they must be received at the designated address by 4:00 p.m., Eastern Standard Time on Friday, November 17, 2000. All overnight mail will be considered to be hand delivered and must be received at the designated place by the specified closing date and time. Telegraphed, e-mailed and/or fax proposals will not be honored. Failure to adhere to the above instructions will be a basis for determination of non-responsive.

Late Proposals. A proposal received at the designated office after the exact time specified for receipt will not be considered unless it is received before the award is made and it:

• Was sent by U.S. Postal Service registered or certified mail not later than the fifth day (5th) calendar day before the closing date specified for receipt of applications (e.g. an offer submitted in response to a solicitation requiring receipt of applications by the 20th of the month must be mailed by the 15th):

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise placed impression (exclusive of a postage meter machine impression) that is readily identifiable without further action as having been supplied or affixed on the date of mailing by employees of the U.S. Postal Service.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Questions should be faxed to Denise Roach, Grants Management Specialist, Division of Federal Assistance at (202) 219-8739 (This is not a toll free-number). All inquiries should include the SGA/DFA-110 and a contact name, fax and phone number. This solicitation will also be published on the Internet, on the Employment and Training Administration (ETA) Home Page at http://www.doleta.gov. Award notifications will also be published on the ETA Home Page.

SUPPLEMENTARY INFORMATION: This solicitation consists of 6 parts. Part I describes the authority, background, purpose and goals of the demonstration program and identifies demonstration policy. Part II describes the application process and provides guidelines for use in applying for demonstration grants. Part III includes the statement of work for the demonstration projects. Part IV describes the selection process including the criteria used to select grantees and the process of application and award. Part V describes the monitoring, reporting and evaluation activities that will be required of grantees. Part VI describes the assurances required of grantees. The Appendix includes application forms and a glossary.

Part I. Background

A. Authority

Section 171(d) of the Workforce Investment Act (WIA) of 1998 authorizes demonstration projects related to the employment and training needs of dislocated workers.

B. Background

A rapidly changing national and global economy has created significant restructuring of existing industries, growth of new economic sectors, and reorganization of work and work processes. This has led to dramatic changes in local economies. Local firms that once employed generations of families have disappeared, reduced employment, or radically changed skills demands. New firms have sprung up—seemingly overnight—offering job opportunities that the local education and training providers have not previously targeted. Career and job performance requirements have been redefined.

In many places, these changes have had the dual effect of leading to substantial numbers of worker layoffs and to reported shortages of workers skilled in certain demand occupations. Additionally, changing demographic patterns and new immigrants create both opportunities and challenges for linking jobs with job seekers.

The speed of transformation in local economies creates critical information gaps, making it more difficult for individuals to know what good job and career opportunities are available, for employers to find employees with the right sets of skills, and for service providers to plan and create appropriate workforce development interventions. Timely information on the supply and demand sides of the labor market and business trends is more critical than ever.

The WIA charges Local Boards with wide-ranging responsibility for workforce development within their communities and continues the emphasis on rapid response with an even greater emphasis on proactive interventions to anticipate and prevent the most harmful impacts of large layoffs. WIA also encourages Local Boards to think and act in terms of labor market areas and, as such, promotes regional cooperation among Local Boards.

To successfully meet these new challenges, Local Boards across the country are looking for ways to get the information they need to understand their labor markets and communities and to make informed, long-term strategic decisions. They also are reaching out to involve and/or develop partnerships with a broader group of stakeholders within their communities. In many regions, business, labor, and community leaders are the ones taking the lead in strategic research and planning initiatives for workforce development. Frequently, the problems and their solutions reach across Local Board boundaries, making regional cooperation and regional partnerships critical.

DOL has launched a series of initiatives to address these challenges of the “new economy”. In 1998, Secretary of Labor Alexis M. Herman initiated a major Dislocated Worker Initiative to improve rapid response assistance and adjustment services for workers, businesses and communities. The Community Audit Project is one component of this broader initiative. Community audits are envisioned as a means by which key stakeholders in local workforce and economic development can better understand business and labor force trends, and develop more informed plans to respond to worker and business needs.

Other related new DOL initiatives are aimed directly at addressing the growing problem of skills shortages in local labor markets. One of these—the H-1B Technical Skill Training Grant Program—was created by the American Competitiveness and Workforce Improvement Act of 1998, signed by the President in October of 1998. That program is designed to help American workers—both employed and unemployed—acquire the requisite training in high skill, high demand occupations in areas such as information technology and health. In the first two rounds of competition for these grants, a total of $41.6 million has been awarded to local communities for skills training.

In addition, in June 1998, $7.5 million in Job Training Partnership Act (JTPA) Title III dislocated worker funds was awarded to train workers in skills related to the information technology industry. In June 1999, DOL awarded over $9.57 million to train dislocated workers in advanced manufacturing skills, and $11.2 million to upgrade the skills of workers employed in low-skill jobs or who have obsolete job skills (incumbent workers). In March 2000, twenty-three organizations received a total of $15.1 million to build regional skills consortia to address the skills shortage problem in their area. Also in June 2000, DOL awarded $11.2 million for a skill shortages, partnership training/system building demonstration program.

Finally, there is a joint venture of the U.S. Department of Labor and the fifty States called ALMIS (America's Labor Market Information System). Its mission is to support the emerging One-Stop Career Center system with useful labor market and occupational information. It also provides information directly to workers and employers, facilitating their access to jobs, labor, training, and career services information.

C. Purpose

The purpose of this demonstration is to support promising practices in strategic planning and “strategic research” that engage local stakeholders in taking a broad look at the needs of their community (or communities) and the character and direction of their regional economy. In the context of this SGA, we are identifying these practices as “community audits”.

Community audits bring together information on economic and labor market trends to support both strategic planning and WIA program operations. They vary in scope and purpose, depending on their precise goals. However, all depend on a common base of information about the regional labor market—both its demand and its supply sides—and about the kinds of workforce development and other critical resources available (such as housing, child care, transportation, supportive services, and so on). A “community audit” is fundamentally a strategic planning effort that involves all the relevant stakeholders. Through community audits, leadership can assess what new skills may be in demand in growth sectors of the local economy and where a decline in demand for certain skills may signal future layoffs.

Baseline data on the demand side of the labor market include a quantitative analysis of the structure and composition of the economy, an analysis of wages and skills associated with different jobs and industries, and a qualitative investigation of industry trends and of industry and firm employment and recruitment systems. Baseline data on the supply side of the labor market include a quantitative analysis of labor force structure and trends, identification of workers with barriers to success in the labor market, and a geographic mapping of workers in relationship to jobs. Finally, a basic mapping of the employment and training “resource base” identifies funding sources and providers for labor exchange, training, and support services.

Beyond this kind of “baseline” audit, local areas can use more focused and targeted techniques to answer particular questions and design specific strategies. The specific information needs will vary by community, depending upon the workforce development strategies being pursued, which may include the following (see attached Glossary for definition of the terms):

• Employing/re-employing a target population;

• Sectoral strategies;

• Layoff aversion strategies;

• Employer-focused training;

• “High Road” strategies;

• Community career ladders; and/or

• Development of skill standards.

DOL launched the Community Audit Project last winter to investigate promising practices in “strategic analysis” and to develop technical assistance tools Workforce Investment Boards and communities can employ to improve the quality and use of information at their disposal. This SGA is a component of the Community Audit Project seeking to further develop and expand the promising practices now being undertaken.

The specific goals for the community audit demonstration are:

1. To support States and local areas in their efforts to implement and use community audits as part of their overall strategic planning initiatives.

2. To increase the capacity of States and local areas to implement effective strategic planning efforts, utilizing the community audit as a tool.

3. To support projects that link Local Board efforts to those of other key stakeholders in a community.

4. To encourage regional partnerships within labor market areas or industry sectors.

5. To build a “peer learning network” to identify and share best practices.

6. To develop technical assistance materials and tools that states and local areas can use.

D. Demonstration Policy

1. Grant Awards

DOL anticipates awarding a total of $2.3 million in approximately 25 grants in two categories (local and State), with individual grant amounts varying depending on the type of grant awarded.

2. Types of Projects

Two types of projects will be funded under this SGA: projects that are initiated and led by local stakeholders and State-led multi-area projects. Either kind of project can involve a regional partnership, including an interstate partnership.

a. Locally-led projects

Community audits are focused on specific communities and/or regions. As such, local stakeholders initiate most of these efforts. However, these projects can have a variety of specific purposes, ranging from long-range broad-based strategic planning efforts to much more targeted initiatives. In addition, as suggested earlier, local applicants can take the form of a collaboration that crosses Local Board boundaries.

Eligible applicants: Eligible applicants for locally led projects include Local Boards or other consortia of local public and private stakeholders (including such groups as community-based organizations, unions, employers). All proposals must have the concurrence of the Local Board(s) for the areas involved in the proposed project.

Maximum amounts available: A maximum of $50,000 per grant for single Local Board areas and a maximum of $100,000 for regional consortia will be awarded, with a total of approximately $1,300,000 for this activity.

b. State-led Multi-Area Projects

States can play an important role in supporting the efforts of local areas and helping to build local capacity. One form this can take is by building a “learning network” among local areas that are actively engaged in community audit projects. States can also make use of economies of scale to develop information, tools, and other forms of technical assistance local areas can use.

Eligible applicants: Eligible applicants are State Workforce Investment Boards, State workforce development agencies, or other consortia of State public and private stakeholders in partnership with Local Boards or other consortia of local stakeholders in three or more local areas. All proposals must have the concurrence of the Local Boards and State Workforce Investment Boards in the areas involved in the proposed project.

Maximum amounts available: A maximum of $150,000 per grant will be awarded, with a total of approximately $1,000,000 for this activity.

3. Collaboration and Cost Sharing

Applicants must demonstrate collaboration among relevant stakeholders (such as employers, community organizations, labor unions, economic development organizations, and faith-based organizations). All applicants must also receive the concurrence of the relevant Local Board(s) and demonstrate a link between the proposed project and the strategic planning efforts of the Local Board(s). State level applicants must show evidence of consultation with Local Boards or local consortia. In addition, the applicants must show that they have reviewed the applicable Local or State Workforce Investment Plan(s) and have ascertained that the proposed project does not duplicate any other efforts.

Applicants must also demonstrate local commitment to the project. One concrete demonstration of that commitment is some form of cost sharing, that is other resources, either in-kind or funds, which are contributed to the project. However, this requirement is not intended to favor larger communities or those with more resources. DOL will take those factors into consideration in evaluating the strength of commitment.

4. Outside Technical Assistance

Once grants are awarded, DOL will arrange for a small team of experts with a range of expertise and experience. This expert team will be available to provide technical assistance to grantees. In addition, it will develop tools and products for use by grantees. Each grantee will be allotted 5 days of free technical assistance from this team. Additional hours can be purchased by grantees on a fee-for-service basis at a cost not to exceed DOL's consultant cost ceiling ($469 per day). In addition, grantees may utilize grant funds to contract with technical assistance providers of their choice.

5. Peer Learning Network

Once grants are awarded, grantees must participate in and make active contributions to a peer learning network of States and local areas funded through this solicitation. There will be at least two grantee meetings to facilitate the development of this peer network. Total costs for these activities of approximately $4,000 should be anticipated in the proposal budget.

6. Period of Performance

The period of performance will be 24 months from the date of execution of the grant documents by the Government.

7. Option to Extend

DOL may elect to exercise its option to extend any or all of these grants for up to one additional year of operation, based on the availability of funds, successful project operation, and the needs of the Department.

Part II. Application Process and Guidelines

Proposal Submission: Applicants must submit four (4) copies of their proposal, with original signatures. The introductory paragraph of the application must state the type of grant for which the proposal is directed (1) Locally-led projects or (2) State-led multi-area projects. The proposal must consist of two (2) distinct parts, Part I and Part II. Part I of the proposal shall contain the Standard Form (SF) 424, “Application for Federal Assistance” (Appendix A) and Budget Form (Appendix B). The Catalog of Federal Domestic Assistance number is 17.246.

Applicants shall indicate on the SF 424 the organization's IRS status, if applicable. According to the Lobbying Disclosure Act of 1995, section 18, an organization described in section 501(c)(4) of the Internal Revenue Code of 1986 which engages in lobbying activities shall not be eligible for the receipt of federal funds constituting an award, grant or loan. The individual signing the SF 424 on behalf of the applicant must represent the responsible financial and administrative entity for a grant should that application result in an award.

The budget (Appendix B) shall include on separate pages a detailed breakout of each proposed budget line item found on the Budget Information Sheet, including detailed administrative costs. An explanation of how the budget costs were derived must be included. Part II must contain a technical proposal that demonstrates the applicant's capabilities in accordance with the Statement of Work contained in this document. The grant application is limited to 25 one-sided, double-spaced pages with 12 point font size on 8.5 x 11 inch paper with 1-inch margins which must include the following: I. Executive Summary—(1 page) II. Application narrative technical proposal. III. Time line implementation plan and the appendix. The 25 page limitation includes all attachments.

Part III. Statement of Work

A. Project Design

This section should detail the design of the proposed community audit project, including its purpose, geographic scope, the nature of the collaboration that will initiate it, its staffing structure, governance structure, level of community involvement, research and other methods, and time frame. The information below applies to both local and state applicants unless otherwise specified.

1. Purpose: Describe the specific purpose or purposes of the project.

2. Geographic scope: Describe the geographic scope of the project. The scope could be as narrow as a specific community within a local workforce investment area or as broad as a multi-local workforce investment area or group of regions that corresponds to a labor market or set of labor markets. State applications must include three or more Local Boards and justify the selection of Local Boards in terms of the coherence of a labor market region or a design meant to test the community audit process in different types of labor markets.

3. Economic scope: Describe what information is known now about the economy of the proposed region(s) (see Glossary) including critical industries, significant industrial clusters, and the general state of the economy. Also, provide information on the kinds of gaps in information on the regional economy that need to be pursued. (WIA local and State plans should be consulted, and information or gaps referenced, as appropriate.)

4. Collaboration: Describe in detail the character of the collaboration between the applicant and the other stakeholders involved in the community audit project. Include reference to consortium partners and other stakeholders, as appropriate. That description must include at least information addressing the following questions: Who is involved in the collaboration? What is the nature of their involvement? How was the collaboration initiated? Does it exist for the purpose of this project or for a broader purpose? What is its expected life span? Include a description of both the governing structure and staffing structure of the collaboration. State applications should describe the role of the State and/or State-level partners in relationship to local collaborations.

5. Coordination with other efforts: Describe other efforts within the community that have similar and/or complementary purposes and how this project will coordinate with those efforts. State applicants should describe State-level or regional efforts that may be coordinated with this project.

6. Community involvement: Describe who in the community will be involved in the project. That description should include information addressing the following questions: Does the project propose to engage members of the community beyond those involved in the initiating collaboration? If so, explain the purpose of this involvement; what members of the community will be targeted and why; and how their involvement will be elicited and sustained. Given that there are many barriers to successful engagement of stakeholders, describe methods the project will employ to overcome these barriers to participation. In particular, detail how the project will involve the employer community in a way that is both serious and sustained. State applications will need to describe the role of the State in supporting the community process.

7. Cost sharing: Describe what other resources will be contributed to the community audit project and by whom. These resources may include funds as well as in-kind contributions. Additionally, the description should include information on whether resources have been identified to continue these efforts past the completion of this particular project and/or if the partners will use this process to help identify such resources.

8. Strategic planning: Describe the planning process envisioned by the project. That description should at least address the following questions: How will the planning process be facilitated? How will the project ensure that the information gathered through the community audit is effectively utilized? Will the community audit be used to influence the existing or future WIA plans? Will it be used to influence other formal decision-making activities? How will the project ensure that this is not a one-shot effort?

9. Strategic research methods: Given the specific goals of the project, describe the methods the applicant will employ to gather the range and kinds of information needed to make the necessary strategic decisions.

10. Previous experience: Describe any previous experience the applicant(s) may have gathering and utilizing labor market information, surveying customers including the business community, conducting community audits, or other similar methods. If the applicant(s) has experience, describe how funding from this project will advance previous efforts. If the applicant(s) does not have previous experience, describe the role it is hoped this project will play and how the community (or communities) intends to build on it in the future. In addition to this information, state applications will need to describe the state's previous role in supporting local areas in the gathering and use of labor market information, developing relationships with employers, and/or providing support for regional initiatives.

11. External technical assistance: Describe what kinds of external technical assistance would be most helpful to your proposed project. What components of this technical assistance do you expect to procure locally?

B. Planned Outcomes

Describe the planned outcomes of the community audit demonstration project. The project must provide DOL with a final report on its outcomes. These outcomes may include, but are not limited to:

1. Community/regional audits: We expect that one specific product of each of the projects will be the community audit itself. In some cases, this may be a detailed report or set of reports.

2. Local/regional strategic plans: Similarly, many projects may develop or revise specific local or regional strategic plans based on the work of the community audit.

3. On-going local/regional/State collaborations: One key purpose of the project is to forge tighter links and better cooperation among key stakeholders. These may take the form of on-going local or regional collaborations.

4. Impact on operations: Community audits may have an impact on specific operational activities such as State or local rapid response, business retention efforts, consumer reports, labor market information systems, and/or incumbent worker training.

5. Increased expertise in strategic planning/strategic research: Capacity-building is another goal of this demonstration. Projects should consider how to measure the gains in expertise in strategic planning and strategic research resulting from the project. This element is particularly important to address in the state applications

6. Technical assistance tools and materials: Projects may develop specific tools and materials that can support local areas in implementing community audits (for example, focus groups, surveys, data collection methods).

Part IV. Rating Criteria for Award and Selection Process

A careful evaluation of applications will be made by a technical review panel who will evaluate the applications against the criteria listed in the SGA. The panel results are advisory in nature and not binding on the Grant Officer. The Government may elect to award grants with or without discussions with the offeror's. In situations without discussions, an award will be based on the offerors signature on the Standard Form (SF) 424, which constitutes a binding offer. The Government reserves the right to make awards under this section of the solicitation to ensure geographical balance. The Grant Officer will make final award decisions based upon what is most advantageous to the Federal Government in terms of technical quality, responsiveness to this Solicitation (including goals of the Department to be accomplished by this solicitation) and other factors.

A. Collaboration/community involvement (23 points):

1. The collaboration on which the project is built is consistent with the goals of the project. (For example, the collaboration includes stakeholders within an entire labor market area, regardless of Local Board boundaries.)

2. The collaboration on which the project is built has strong ties to the employer community and Local Board(s).

3. The collaboration on which the project is built is broadly representative of the affected stakeholders. (In particular, the collaboration reaches beyond the traditional workforce investment community to involve other community actors such as economic development organizations, community development corporations (CDC's), community-based organizations (CBO's), employer organizations/industry associations, labor organizations, faith-based organizations, neighborhood organizations, and so on).

4. The design and governance of the project ensure that all stakeholders have a real voice in the conduct of the community audit project and in the strategic decisions that flow from it.

The project design ensures that citizens of the affected community more broadly are involved in and have a voice in the conduct of the project.

B. Commitment (15 points)

1. The participating community (or communities) and state-level organization (where relevant) demonstrate a serious commitment to long-term strategic planning.

2. The participating community (or communities) and state-level organization (where relevant) demonstrate particular commitment to this project through their contribution of time and other resources.

3. The participating community (or communities) and state-level organization (where relevant) are able to explain how this project fits into other related efforts at the state and local level.

C. Goals and methods (22 points)

1. The goals of the project are consistent with the goals of the relevant Local Board(s).

2. The project is aimed at addressing an important workforce development (and economic development) concern or concerns in the target area by engaging local stakeholders in an effective strategic planning exercise.

3. The approaches and methods proposed by the project are consistent with the goals of the proposed project, that is:

(a) The geographic scope of the project is consistent with its goals.

(b) The project design sufficiently addresses the process, as well as the outcomes, of strategic planning and has allocated sufficient resources to ensure that the planning process is implemented effectively.

(c) The project design describes how the information gathered will be sufficiently detailed and wide-ranging, timely, and relevant to the project's strategic goals.

(d) The methods employed are such that the conduct of the community audit both involves and informs the community.

4. The project design addresses the process by which the results of the community audit will be used to influence policy and program outcomes.

D. Potential use and Value of Results (15 points)

1. The project process, structure and outcomes offer lessons, tools, or other products that will assist other communities throughout the country to understand and utilize information in creating workforce development initiatives.

2. The project design has the ability to broaden the role and responsibility of the Local Board(s) consistent with state and local plans including the strength and scope of partnerships.

3. Local partners indicate the value of this project to them in the strength of their contributions to the proposed project and its future after the grant period.

E. Sustainability (15 points)

1. The project builds local strategic planning and strategic research capacity (including on-going collaborations among key stakeholders).

2. The project develops methods, materials, and tools that can be used for future efforts and can be shared with other communities.

3. The Local Board(s) and elected officials (and/or State Workforce Investment Board or Governor) have a concrete commitment to sustain and broaden the practice of community audits.

F. Cost Effectiveness (10 points)

1. The application includes a detailed cost proposal including a detailed discussion of the expected cost effectiveness of the project. This is presented in terms of reasonableness of cost in relation to activities planned, including such factors as the geographic area covered by the project and the number and range of partners.

2. Expenses are identified which will be incurred in establishing and/or strengthening the collaborative, cooperative partnership. Benefits are described either qualitatively in terms of the value of established cooperative relationships and skills attained and/or quantitatively in terms of wage gains and cost savings resulting from collaborative efforts and activities.

3. The cost proposal provides information on the extent leveraged resources in funds and in kind (including staff time, printing, postage, meeting space) from stakeholders are available and how effectively they are used in the project.

Part V. Monitoring, Evaluation and Reporting

A. Monitoring

The Department is responsible for ensuring effective implementation of each competitive grant project in accordance with the WIA, applicable regulations, the provisions of this announcement and the negotiated grant agreement. Applicants should assume that at least one on-site project review will be conducted by Department staff, or their designees. This review will focus on the project's performance in meeting the grant's program goals, complying with the requirements for the grant, expenditure of grant funds on allowable activities, collaboration with other organizations as required, and methods for assessment of the responsiveness and effectiveness of the services being provided. Grants may be subject to additional reviews at the Department's discretion.

B. Reporting

DOL will arrange for or provide technical assistance to grantees to establish appropriate reporting and data collection methods and processes. An effort will be made to accommodate and provide assistance to grantees to enable them to complete all reporting electronically.

Applicants selected as grantees will be required to provide the following reports:

1. Monthly and Quarterly progress reports.

2. Standard Form 269, Financial Status Report Form, on a quarterly basis.

3. Final Project Report including an assessment of project performance. This report will be submitted in hard copy and on electronic disk utilizing a format and instructions to be provided by the Department.

C. Evaluation

DOL will arrange for an independent evaluation of the outcomes, impacts, and benefits of the demonstration projects. Grantees must agree to make records available to evaluation personnel, as specified by the evaluator(s) under the direction of the Department.

Part VI. Assurances

Successful applicants must give several assurances, including that they will fully participate in post-award grantee meetings, agree to participate in a peer learning network and participate in DOL evaluations as necessary. All applicants must provide the full list of assurances as follows:

• Cooperate with DOL technical assistance providers, including on-site visits.

• Participate in the peer learning network.

• Participate in DOL evaluations.

• Assist the DOL in building staff capacity throughout the WIA system in this area.

• Participate in staff training activities planned by DOL/ETA.

Signed at Washington D.C., this date, August 30, 2000.
Laura A. Cesario,
Grant Officer, Division of Acquisition and Assistance.

Appendices

Appendix A: SF 424-Application for Federal Assistance

Appendix B: Budget Information Form

Appendix C: Glossary of Terms

BILLING CODE 4510-30-P

[FR Doc. 00-22644 Filed 9-1-00; 8:45 am]

BILLING CODE 4510-30-C